DEPARTMENT OF DEFENSE

Department of Defense Task Force on the Future of Military Health Care

AGENCY: DoD; Office of the Assistant Secretary of Defense (Health Affairs).

ACTION: Notice of change of meeting location.

SUMMARY: Pursuant to the Federal Advisory Committee Act of 1972 (5 U.S.C., Appendix, as amended), the Sunshine in the Government Act of 1976 (5 U.S.C. 552b, as amended) and 41 Code of Federal Regulations (CFR) 102-3.140 through 160, the Department of Defense announces the following location change to a committee meeting:

Name of Committee: Department of Defense Task Force on the Future of Military Health Care, a duly established subcommittee of the Defense Health Board.

Date of Meeting: July 25, 2007.

Time of Meeting: 8:30 a.m. to 3:30 p.m.

Place of Meeting: Key Bridge Marriott, 1401 Lee Highway, Arlington, Virginia 22209.

Purpose of Meeting: To obtain, review, and evaluate information related to the Task Force's congressionally-directed mission to examine matters relating to the future of military health care. The Task Force members will receive briefings on topics related to the delivery of military health care during the public meeting.

Agenda: Discussion topic will be Acquisition and Procurement issues related to the military healthcare system.

Prior to the public meeting the Task Force will conduct a Preparatory Work Meeting from 8 a.m.-8:25 a.m. to solely analyze relevant issues and facts in preparation for the Task Force's next public meeting. In addition, the Task Force, following its public meeting, will conduct an additional Preparatory Work Meeting from 3:30 p.m. to 4 p.m. to analyze relevant issues and facts in preparation for the Task Force's next public meeting. Both Preparatory Meetings will be held at the Key Bridge Marriott, 1401 Lee Highway, Arlington, Virginia 22209, and pursuant to 41 Code of Federal Regulations, Part 102-3.160(a), both Preparatory Work Meetings are closed to the public.

Additional information and meeting registration is available online at the Task Force Web site: http://www.DoDfuturehealthcare.net.

FOR FURTHER INFORMATION CONTACT: Colonel Christine Bader, Executive Secretary, Department of Defense Task Force on the Future of Military Health Care, TMA/Code:DHS, Five Skyline Place, Suite 810, 5111 Leesburg Pike, Falls Church, Virginia 22041-3206, (703) 681-3279, ext. 109 (christine.bader@ha.osd.mil).

SUPPLEMENTARY INFORMATION: Open sessions of the meeting will be limited by space accommodations. Any interested person may attend; however, seating is limited to the space available at the Key Bridge Marriott, 1401 Lee Highway, Arlington, Virginia 22209. Individuals or organizations wishing to submit written comments for consideration by the Task Force should provide their comments in an electronic (PDF Format) document through the Task Force Web site (http://www.DoDfuturehealthcare.net) at the “Contact Us” page, no later than five (5) business days prior to the scheduled meeting.

“Pursuant to the FACA statute, FACA regulations and DoD policy, substantive changes to any previously announced Federal advisory committee meeting notice must be published in the Federal Register. Rescheduling the July 25, 2007 meeting to comply with the 15-calendar day requirement of the Sunshine Act and 41 CFR 102-3.150(a) would have an adverse impact on the Task Force's ability to comply with its congressionally-mandated mission. Accordingly, the Committee Management Officer for the Department of Defense, pursuant to 41 CFR 102-3.150(b), waives the 15-calendar day notification requirement.”

Dated: July 19, 2007.
L.M. Bynum,
Alternate OSD Federal Register, Liaison Officer, Department of Defense.

[FR Doc. 07-3622 Filed 7-20-07; 11:08 am]

BILLING CODE 5001-06-P